DEPARTMENT OF JUSTICE

Notice of Lodging of Consent Decree Under the Clean Air Act

Notice is hereby given that on July 31, 2009, a proposed Consent Decree (“Decree”) in United States v. INEOS ABS (USA) Corporation, et al., Civil Action No. 1:09-CV-545, was lodged with the United States District Court for the Southern District of Ohio.

In this action the United States, on behalf of the U.S. Environmental Protection Agency (“U.S. EPA”), and the State of Ohio, on behalf of the Ohio Environmental Protection Agency (“Ohio EPA”), sought penalties and injunctive relief under the Clean Air Act, the Comprehensive Environmental Response, Compensation and Liability Act of 1980, and the Emergency Planning and Right-to-Know Act and analogous State laws. The proposed Decree resolves alleged violations of the CAA, EPCRA and CERCLA relating to a chemical facility located in Addyston, Ohio. Under the Decree, Defendants will pay a $3.1 million civil penalty, to be split evenly between the United States and the State of Ohio, with the State's portion being divided between Ohio EPA and the Hamilton County Department of Environmental Services. INEOS will also (1) operate its flare in accordance with specific new parameters to ensure control of volatile organic compounds (VOCs), which include hazardous air pollutants, in accordance with its 99% flare control efficiency permit requirements; (2) install a new biofilter system to reduce acrylonitrile emissions, a hazardous air pollutant; (3) conduct a comprehensive review of compliance with emergency release reporting regulations; and (4) conduct a comprehensive set of leak detection and repair (LDAR) practices that go beyond regulatory requirements.

The Department of Justice will receive for a period of thirty (30) days from the date of this publication comments relating to the Decree. Comments should be addressed to the Assistant Attorney General, Environment and Natural Resources Division, P.O. Box 7611, U.S. Department of Justice, Washington, DC 20044-7611, and either e-mailed to pubcomment-ees.enrd@usdoj.gov or mailed to P.O. Box 7611, U.S. Department of Justice, Washington, DC 20044-7611, and should refer to United States, et al. v. INEOS ABS (USA) Corporation, et al., D.J. Ref. 90-5-2-1-09264. The Decree may be examined at U.S. EPA, Region 5, 77 West Jackson Blvd., Chicago, IL 60604. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $21.25 (25 cents per page reproduction cost) payable to the U.S. Treasury or, if by e-mail or fax, forward a check in that amount to the Consent Decree Library at the stated address.

Maureen Katz,
Assistant Chief, Environmental Enforcement Section, Environment and Natural Resources Division.

[FR Doc. E9-18790 Filed 8-5-09; 8:45 am]

BILLING CODE 4410-15-P